NATIONAL SCIENCE FOUNDATION

Committee on Equal Opportunities in Science and Engineering (1173); Notice of Meeting

Correction

The National Science Foundation published a document in the Federal Register of January 30, 2009 announcing the Committee on Equal Opportunities in Science and Engineering meeting in FR Doc. fr30ja09-94, on page 5686. Two items have been added to the Presentations and Discussion for Friday, February 20. The revised agenda is:

Friday, February 20, 2009

Opening Statement by the CEOSE Chair: Presentations and Discussions:

• A Science of Broadening Participation.

• A Report on the Series of Outreach Meetings on the Impact of the Suppression of Small Data Cells in the Survey of Earned Doctorates (SED) Reports.

• An Update on the Next Steps in Providing Race, Ethnicity and Gender (REG) Data from the Survey of Earned Doctorates (SED).

• Reports by CEOSE Liaisons to Advisory Committees of the National Science Foundation.

• Discussion: The CEOSE Path Forward.

• Completion of Unfinished Business.

Contact Person: Dr. Margaret E.M. Tolbert, Senior Advisor and CEOSE Executive Liaison, Office of Integrative Activities, National Science Foundation, 4201 Wilson Boulevard, Arlington, VA 22230 Telephone Numbers: (703) 292-4216, 703-292-8040 mtolbert@nsf.gov

Dated: February 10, 2009.
Susanne Bolton,
Committee Management Officer.

[FR Doc. E9-3153 Filed 2-12-09; 8:45 am]

BILLING CODE 7555-01-P